DEPARTMENT OF THE INTERIOR

Geological Survey

[GX24EN05ESBJF00]

Assessment of Biodiversity and Climate Change; Request for Public Comment on the First Draft of Assessment Chapters

AGENCY: U.S. Geological Survey, Department of the Interior.

ACTION: Notice with comment period.

SUMMARY: The U.S. Geological Survey (USGS) is giving notice of a comment period on draft chapters of the Biodiversity and Climate Change Assessment.

DATES: Comments regarding the draft chapters of the assessment must be submitted by December 16, 2024.

ADDRESSES: You may submit comments by any of the following methods:

• Electronic portal: https://contribute.globalchange.gov/

• Email to biodiversityclimatechange@usgs.gov

• Mail to Kate Malpeli, 12201 Sunrise Valley Dr., MS-516, Reston, VA 20192, United States

Instructions: Public comments should be accompanied by the commentor's name, phone number, email address, and affiliation (at the commentor's discretion).

FOR FURTHER INFORMATION CONTACT: Kate Malpeli by email at biodiversityclimatechange@usgs.gov or by telephone at 919-896-5029. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: Biodiversity underlies nature's contributions to people (also known as ecosystem services), including food, water, health, hazard protection, and cultural values. Climate change is among the primary drivers of biodiversity loss, and well-managed biodiversity conservation can contribute to climate-change mitigation and adaptation. Understanding the interplay between climate change and biodiversity is critical for the implementation of effective and lasting solutions to climate change and for maintaining biodiversity and nature's contributions to people.

The USGS, the nation's largest water, earth, and biological science agency, was charged by the United States Congress in the Fiscal Year 2022 budget with conducting an assessment that characterizes the state of understanding concerning linkages between climate change and biodiversity for the United States. Climate change impacts and biodiversity drivers cross national boundaries, and accordingly the geographic scope of assessment will include neighboring nations, particularly Canada and Mexico. The assessment process and report production will be led by the USGS, in collaboration with Environment and Climate Change Canada and Mexico's La Comisión Nacional para el Conocimiento y Uso de la Biodiversidad (CONABIO), and is being undertaken by scientists, knowledge holders, practitioners, and policy experts from all three countries. Participation includes engagement from governments at all levels, universities, nonprofit organizations, the private sector, Indigenous Peoples, and local communities. The assessment will characterize the state of understanding concerning key linkages between climate change and biodiversity, identify critical knowledge gaps, and summarize implications for biodiversity and climate-change policy. The assessment will build on the recently completed Intergovernmental Platform on Biodiversity and Ecosystem Services (IPBES) global assessment of biodiversity and ecosystem services and represent a continental contribution to upcoming IPBES (and other) knowledge products. The primary product will comprise an assessment report, planned for release in early 2025, evaluating the relationships between climate and biodiversity in the United States, Canada, Mexico, and adjacent regions as appropriate, and identifying policy options to conserve biodiversity in the face of climate change.

As the first milestone, USGS and its partners seek public comments on the draft chapters (https://contribute.globalchange.gov/) for the assessment of biodiversity and climate change.

Thomas Beard,
Senior Administrator, National Climate Adaptation Science Center.

[FR Doc. 2024-23649 Filed 10-11-24; 8:45 am]

BILLING CODE 4338-11-P